Proclamation 7908 of June 1, 2005

Great Outdoors Month, 2005

By the President of the United States of America

A Proclamation

During Great Outdoors Month, we celebrate our Nation's natural heritage, reaffirm our commitment to conserve our environment, and recognize the many volunteers who help maintain our natural spaces.

Americans are blessed by our country's expansive landscapes, diverse wildlife, and beautiful public lands. Outdoor recreation provides an opportunity to enjoy the splendor of our Nation's remarkable natural treasures and reminds us of our responsibility to be good stewards of the environment.

Across our great Nation, Americans are taking that responsibility seriously and volunteering to help keep our natural areas beautiful for future generations. I commend these citizens for helping to protect our public lands, and I encourage all Americans to do their part. The Department of the Interior's Take Pride in America website and the USA Freedom Corps website offer examples of ways to participate in environmental stewardship projects.

We have an obligation to protect the Earth, and my Administration is pursuing responsible initiatives to make our air cleaner, our water purer, and our land better protected. In doing so, we are demonstrating the important principle that environmental protection and economic prosperity are both vital parts of being good stewards in the land we call home. Through these and other efforts, we will continue to build a cleaner, safer, and healthier environment for all Americans.

NOW, THEREFORE, I, GEORGE W. BUSH, President of the United States of America, by virtue of the authority vested in me by the Constitution and laws of the United States, do hereby proclaim June 2005 as Great Outdoors Month. I call on all Americans to observe this month with appropriate programs and activities and to enjoy safe outdoor recreational activities.

IN WITNESS WHEREOF, I have hereunto set my hand this second day of June, in the year of our Lord two thousand five, and of the Independence of the United States of America the two hundred and twenty-ninth.

B

[FR Doc. 05-11344

Filed 6-3-05; 9:46 am]

Billing code 3195-01-P